ENVIRONMENTAL PROTECTION AGENCY

40 CFR Part 300

[EPA-HQ-SFUND-1987-0002; FRL-10010-09-Region 3]

National Oil and Hazardous Substances Pollution Contingency Plan; National Priorities List: Deletion of the First Piedmont Rock Quarry (Route 719) Superfund Site

AGENCY: Environmental Protection Agency (EPA).

ACTION: Direct final rule.

SUMMARY: The Environmental Protection Agency (EPA) Region III is publishing a direct final Notice of Deletion of the First Piedmont Rock Quarry (Route 719) Superfund Site (Site), located in Pittsylvania County, Virginia, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the Commonwealth of Virginia, through the Virginia Department of Environmental Quality (VDEQ), because EPA has determined that all appropriate response actions under CERCLA, other than operation and maintenance (O&M), monitoring, and five-year reviews, have been completed. However, this deletion does not preclude future actions under Superfund.

DATES: This direct final rule is effective August 24, 2020 unless EPA receives adverse comments by July 23, 2020. If adverse comments are received, EPA will publish a timely withdrawal of the direct final rule in the Federal Register informing the public that the deletion will not take effect.

ADDRESSES: You may submit comments, identified by Docket ID No. EPA-HQ-SFUND-1987-0002, by any of the following methods:

• Federal eRulemaking Portal: https://www.regulations.gov (our preferred method). Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

• Email: sorto.evelyn@epa.gov. Include the Docket ID No. in the subject line of the message.

• Written comments submitted by mail are temporarily suspended and no hand deliveries will be accepted. We encourage the public to submit comments via https://www.regulations.gov.

Instructions: Direct your comments to Docket ID No. EPA-HQ-SFUND-1987-0002. EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available electronically in https://www.regulations.gov, or please contact the person identified in the FOR FURTHER INFORMATION CONTACT section for additional availability information. The EPA is temporarily suspending its Docket Center and Regional Records Centers for public visitors to reduce the risk of transmitting COVID-19. In addition, many site information repositories are closed and information in these repositories, including the deletion docket, has not been updated with hardcopy or electronic media. For further information and updates on EPA Docket Center services, please visit us online at https://www.epa.gov/dockets. The EPA continues to carefully and continuously monitor information from the Centers for Disease Control and Prevention (CDC), local area health departments, and our Federal partners so that we can respond rapidly as conditions change regarding COVID-19.

FOR FURTHER INFORMATION CONTACT:

Technical information: Evelyn Sorto, 215-814-2123, sorto.evelyn@epa.gov.

Legal information: Ami Antoine, 215-814-2497, antoine.ami@epa.gov.

SUPPLEMENTARY INFORMATION:

Table of Contents

I. Introduction

II. NPL Deletion Criteria

III. Deletion Procedures

IV. Basis for Site Deletion

V. Deletion Action

I. Introduction

EPA Region III is publishing this direct final Notice of Deletion of the First Piedmont Rock Quarry (Route 719) Superfund Site (Site), from the National Priorities List (NPL). The NPL constitutes appendix B of 40 CFR part 300, which is the National Oil and Hazardous Substances Pollution Contingency Plan (NCP), which EPA promulgated pursuant to section 105 of the Comprehensive Environmental Response, Compensation, and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

Section II of this preamble explains the criteria for deleting sites from the NPL. Section III of this preamble discusses procedures that EPA is using for this action. Section IV of this preamble discusses the First Piedmont Rock Quarry (Route 719) Superfund Site and demonstrates how it meets the deletion criteria. Section V of this preamble discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

(1) Responsible parties or other persons have implemented all appropriate response actions required;

(2) All appropriate Fund-financed response under CERCLA has been implemented, and no further response action by responsible parties is appropriate; or

(3) The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth of Virginia prior to developing this direct final Notice of Deletion and the Notice of Intent to Delete published in the “Proposed Rules” section of this issue of the Federal Register.

(2) EPA has provided the Commonwealth of Virginia 30 working days for review of this action and the parallel Notice of Intent to Delete prior to their publication, and the Commonwealth of Virginia, through VDEQ, has concurred on the deletion of the Site from the NPL.

(3) Concurrently with the publication of this direct final Notice of Deletion, a notice of the availability of the parallel Notice of Intent to Delete is being published in a major local newspaper, the Danville Register & Bee. The newspaper notice announces the 30-day public comment period concerning the Notice of Intent to Delete the Site from the NPL.

(4) The EPA placed copies of documents supporting the proposed deletion in the deletion docket and made these items available for public inspection.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not in itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Site is located along Route 719 in Pittsylvania County, Virginia near the intersection with Route 360, also known as Lawless Creek Road. It is approximately six miles north of the city of Danville. Directly across from Route 719 and south of the Site is a residential area, the Beaver Park community. The community is cross-gradient and up-gradient of groundwater flow from the Site. All of the homes in Beaver Park obtain residential water from either wells or springs. Groundwater flow at the Site is to the northwest. The land surface in the immediate vicinity of the Site slopes gently westward. Drainage from the Site and area is towards Lawless Creek, which lies approximately 1,400 feet west of the Site. The majority of the land use in the immediate vicinity of the Site is woodlands, pastures, and open land.

The Site was initially operated as a quarry for crushed stone. The four-acre property which comprises the Site consists of the abandoned quarry and adjacent land. The Site was leased from April 1, 1970 to April 1, 1975 by the First Piedmont Corporation to be used as a landfill for disposal of industrial and agricultural waste. Wastes were disposed in the landfill from April 1970 to July 1972, at which point the Virginia Department of Health ordered waste disposal operations to cease due to a fire on the landfill.

The landfilling operations were restricted almost exclusively to the two-acre quarry area. The quarry was not filled in a systematic fashion; no cells or segregated disposal areas were used for specific wastes. Hundreds of drums were buried in the landfill in random fashion with other solid waste. Upon arrival at the Site, wastes were generally dumped at the highwall along the eastern edge of the landfill, where the quarry is approximately 35 feet deep, and pushed down with a bulldozer. Wastes were not covered at the end of each day.

The landfill contains approximately 65,000 cubic yards of industrial and agricultural waste and approximately 3,000 cubic yards of soil was used as a cover when the landfilling was stopped. The industrial wastes were generated by the Goodyear Tire and Rubber Company and Corning Glass Works; the agricultural wastes were generated by Southern Processors, Inc. The wastes from Goodyear consisted of tires, general plant refuse, scrap rubber, rubber buildup, and approximately 15,000 gallons of a mixture of residual MS-20 (a floor degreaser), water, carbon black (reinforcing filler in tires), and detergent. The MS-20 contained ten percent by volume of tetrachloroethylene (PCE), which is a listed hazardous waste under the Resource Conservation and Recovery Act (RCRA). The wastes from Corning Glass Works consisted of paper, glass, cardboard, and off-specification batch materials which contained trace amounts of lead oxide. The wastes from Southern Processors, a tobacco processing company, consisted of soil removed from tobacco leaves, scrap, paper, and wood.

Separate and apart from the landfill are two other waste disposal areas within the main fenced area on the Site. These two areas are known as the Carbon Black Pile and the Waste Pile. The Carbon Black Pile consisted of approximately 1,260 cubic yards of carbon black and contaminated soils. “Carbon black” is a reinforcement additive used in tire manufacturing that is comprised almost entirely of carbon. The Carbon Black Pile is located approximately 150 feet from the western edge of the landfill. The Waste Pile contained approximately 95 cubic yards of waste material, consisting of waste steel, nylon tire cording, waste glass, waste rubber strips, and contaminated soils. The Waste Pile is located about 75 feet from the western edge of the landfill.

On June 1, 1981, the Goodyear Tire and Rubber Company notified the First Piedmont Corporation that some of the wastes deposited at the First Piedmont Rock Quarry Landfill were hazardous. The First Piedmont Corporation filed a “Notification of Hazardous Wastes Site” form with EPA on June 5, 1981, listing solvents as one of the wastes disposed of at the landfill. The EPA Field Investigation Team subcontractor sampled the media in the landfill vicinity in July 1983 to provide data for EPA to determine whether the landfill should be proposed for listing on the NPL. EPA proposed the Site (CERCLIS ID VAD980554984) to the NPL on April 10, 1985 (50 FR 14115, April 10, 1985) and added the Site to the NPL on July 22, 1987 (52 FR 27620, July 22, 1987).

Remedial Investigation and Feasibility Study (RI/FS)

EPA sent Special Notice Letters on May 6, 1986 to initiate negotiations with the First Piedmont Corporation, Corning Glass Works, and the Goodyear Tire and Rubber Company (the potentially responsible parties or PRPs) to perform a Remedial Investigation/Feasibility Study (RI/FS) for the Site. On December 31, 1987, EPA and the PRPs entered into an Administrative Order by Consent for the PRPs to conduct the RI/FS. The RI/FS was designed to determine the nature and extent of contamination at the Site and to identify and evaluate remedial alternatives for remediation at the Site.

The RI for the Site was performed by Westinghouse Environmental and Geotechnical Services, Inc. (Westinghouse) on behalf of the PRPs. In May 1988, the RI was initiated to assess the nature and extent of contamination and document the potential for contaminant migration from the Site. Westinghouse field activities conducted during the RI included:

• Sampling and analysis of source area materials including waste materials, soil, and water within the quarry;

• Residential well sampling and analysis for private wells in the Beaver Park community;

• Installation of ten (10) monitoring wells and five (5) piezometers. Four (4) piezometers were converted to monitoring wells for a total of 14 monitoring wells;

• Groundwater sampling and analysis of the 14 monitoring wells;

• Surface water, sediment, and soil sampling from areas within and adjacent to the Site;

• A preliminary wetland delineation; and

• Biological toxicity testing.

Based on the sampling results, EPA identified 14 contaminants of concern (COCs) for the Site's leachate, surface waters, groundwater, soils, and sediments. The contaminants were all detected at concentrations exceeding background levels. The COCs include antimony, arsenic, barium, benzene, bis(2-ethylhexyl) phthalate, cadmium, copper, lead, manganese, mercury, nickel, selenium, vanadium, and zinc. Although PCE was disposed at the Site, the compound was not detected in any of the sampled media at levels exceeding health-based criteria. Therefore, it was not identified as a COC.

As part of the RI, a Baseline Risk Assessment was prepared. The assessment concluded that the levels of antimony, arsenic, barium, and lead in the Site's leachate posed an unacceptable risk to human health. In particular, the quarry leachate posed an unacceptable risk to human health if ingested. The assessment also found that the concentrations of lead in the quarry soil presented an unacceptable risk to human health due to the possible incidental ingestion of soil by children playing in the soil. Similarly, the Site's source material (including the Carbon Black Pile, Waste Pile, and drums) was determined to contain elevated levels of lead that posed unacceptable risk if ingested by children.

Selected Remedy

The remedial action objectives (RAOs) for the Site, as described in the Site decision documents, are to prevent human contact with materials containing COCs, prevent the off-site migration of contaminants, and prevent COCs in surface water from being discharged to Lawless Creek or reduce concentrations of COCs in surface water to levels that pose no risk to the environment.

A Record of Decision (ROD) was signed by EPA on June 28, 1991. The ROD described the Selected Remedy for the Site and addressed the contaminated media known to exist at the time. The Selected Remedy consisted of the installation of a RCRA Subtitle-C cap over the landfill as well as a leachate collection and storage system. Collected leachate would be stored and eventually transported to the City of Danville publicly owned treatment works (POTW) for treatment and final discharge. The Selected Remedy also included the excavation and off-site disposal of surface drums, debris, and non-landfill wastes (including the Carbon Black Pile, Waste Pile, and select Northern Drainage soils and sediments). Finally, the Selected Remedy called for the installation of groundwater monitoring wells, development of a routine monitoring system, and implementation of institutional controls for the Site.

In the First Five-Year Review Report dated September 30, 1999, EPA determined that the remedy was not protective because sediments in the Southern Drainage and portions of the Lawless Creek were found to have significant levels of zinc which posed a potential risk to ecological receptors. As a result, the PRPs performed additional investigations to further delineate the nature and extent of zinc-contaminated sediments within the Southern Drainage and Lawless Creek areas. Based on the results of the investigations, EPA concluded that zinc oxide disposed of at the Carbon Black Pile was the primary source of zinc in the sediment of the Southern Drainage and Lawless Creek areas. EPA determined that additional excavation of the Carbon Black Pile was required in order to protect the environment. EPA issued an Explanation of Significant Differences (ESD) on May 30, 2007. The ESD modified the Selected Remedy to establish cleanup standards for zinc-impacted soils in the Carbon Black Pile. The 1991 ROD did not outline soil cleanup standards for zinc. Instead, the excavation of the Carbon Black Pile ended when no more carbon black was visible. Pursuant to the ESD, the Carbon Black Pile would be excavated to remove soils with zinc concentrations exceeding 200.2 mg/kg.

On February 3, 2005, EPA issued the Second Five-Year Review Report for the Site. The report concluded that the remedy was protective of human health but was not functioning as intended. EPA found that sediments in the Southern Drainage Area and Lawless Creek Floodplain still had elevated levels of zinc which could pose a risk to ecological receptors. It was also determined that institutional controls called for in the 1991 ROD had not been implemented.

On September 23, 2014, EPA issued a ROD Amendment to address zinc-contaminated sediments and soils within the Southern Drainage and Lawless Creek Floodplain, areas which had not been addressed under the 1991 ROD or 2007 ESD. The ROD Amendment established cleanup standards for zinc-impacted sediments and soils in the Southern Drainage and Lawless Creek Floodplain. The Selected Remedy included excavation and off-site disposal of sediments and soils with zinc concentrations exceeding 148.6 mg/kg. It also called for the reclamation of the excavated area (including backfilling of soils and planting of vegetation), monitoring for sediment and erosion control until the wetland portion was successfully re-vegetated, the purchase of wetlands credits from a mitigation bank at a ratio of 2:1, and institutional controls to prevent the disturbance of the soils and sediments in the wetland area, the surface cap, the leachate collection system, and the temporary tank in which the leachate is stored.

On April 13, 2020, EPA prepared a memorandum to the site file to document a non-significant change to the Selected Remedy. As discussed previously, the 2014 ROD Amendment required that institutional controls be implemented in the wetland area to prevent the disturbance of soils and sediments. The memorandum to the site file modifies the Selected Remedy to remove the requirement for institutional controls to be implemented in the wetland, because no zinc-contaminated material remained there after completion of the remedy, and documents that this minor change does not have a significant impact on the scope, performance, or cost of the Selected Remedy.

Response Actions

EPA issued a Unilateral Administrative Order (UAO) to the PRPs on July 23, 1992 for implementation of the ROD. The PRPs completed the Final Remedial Design Report in June 1994. EPA conditionally approved the Final Remedial Design Report on June 30, 1994, with final approval contingent upon the submission of additional information including analytical data and a deed restriction. Remedial action (RA) work at the Site began on September 6, 1994. Work was completed in accordance with the approved design such that a pre-certification inspection of the Site was conducted on April 27, 1995. The Remedial Action Report dated July 25, 1995, certified that the RA activities were performed according to design specifications set forth in the RA package. The RA included the following major actions:

• A RCRA Subtitle-C cap was installed on the landfill;

• A leachate collection system with on-site holding tanks was installed. Leachate collection is followed by transport to the City of Danville's POTW for treatment and final discharge;

• Excavation and off-site disposal of an estimated 1,260 cubic yards of Carbon Black Pile soils, 95 cubic yards of Waste Pile soils and debris, and 710 cubic yards of Northern Drainage soils and sediments;

• 96 drums and 100 cubic yards of tires and debris on the surface landfill were disposed off-site; and

• A perimeter security fence was installed.

Following the issuance of the May 2007 ESD, the PRPs submitted an Addendum to the Remedial Action Work Plan in October 2007 and a Revised Supplement to the work plan in April 2008. The Addendum to the Remedial Action Work Plan and Revised Supplement addressed additional excavation activities proposed for the Carbon Black Pile area. The documents were approved by EPA in April 2008. The work plan was implemented in August 2008 and the excavation activities were completed on January 2, 2009. The remedial activities resulted in the excavation and off-site disposal of approximately 608 tons of soil, 10 yards of debris and trash generated during remedial action, and 1,600 gallons of stormwater that accumulated in the excavation area during the remedial action. Final confirmation sampling results indicated that the zinc concentrations in the bottom of the excavation ranged from 55.6 mg/kg to 161 mg/kg, with an average concentration of 94.7 mg/kg, well below the cleanup standard of 200.2 mg/kg. The excavation was backfilled with clean fill material and excavation areas were restored to approximate preconstruction conditions and grade.

After EPA signed the September 2014 ROD Amendment, the PRPs prepared and submitted the Remedial Design and Remedial Action Work Plan Addendum in July 2015. EPA and VDEQ provided comments on the work plan and the PRPs submitted a revised work plan in February 2016. The revised work plan was approved by EPA and VDEQ in July 2016. The excavation at the Southern Drainage and Lawless Creek Floodplain started on August 14, 2017 and was completed on November 20, 2017. The excavation focused on the removal of zinc-impacted sediment and soil within a 0.71-acre area of the Lawless Creek Floodplain with the upper 24 inches of soil initially removed. The area was excavated to remove sediment and soil with zinc concentrations exceeding the 148.6 mg/kg cleanup standard. At the PRPs discretion, excavations continued past the 24-inch depth requirement, resulting in no zinc-contaminated soils exceeding 148.6 mg/kg remaining in the area. Because of the removal of all zinc-contaminated material, no institutional control is required for the wetland area. The excavation led to the removal and off-site disposal of 420 cubic yards (62.2 tons) of vegetative debris, 2,655 cubic yards (3,188 tons) of impacted soils, 200 gallons of wastewater, and 13.85 tons of general trash. The area was then backfilled with clean soil and planted. EPA inspected the excavation area on October 18, 2018 to verify that the revegetation of the area had taken root.

Cleanup Levels

Remedial actions including the excavation and off-site disposal of contaminated soils and sediments, removal of drums and debris, construction of a RCRA Subtitle-C Cap and leachate collection system, and installation of a property fence addressed human health risks at the Site. Remedial actions have also removed all soils exceeding the risk-based ecological levels for zinc and therefore addressed any elevated ecological risk at the Site. Although no groundwater remedy was selected for the Site, groundwater and leachate are monitored as part of the landfill closure O&M. Groundwater is monitored semi-annually and analyzed for the target analyte list (TAL) inorganic metals. Data analysis shows that concentrations of COCs have remained consistent and are below action levels and maximum contaminant levels (MCLs).

Operation and Maintenance

The PRPs continue to operate and maintain the landfill cover, the leachate collection system and storage system, the groundwater monitoring system, and landfill in accordance with the approved O&M Plan, which was conditionally approved in the fall of 1995 and received final approval in December 2019. Vegetation on the landfill cap is cut and fencing is repaired as needed. Groundwater sampling is conducted semi-annually. Leachate is temporarily stored on-site in two 20,000-gallon storage tanks. The leachate is sampled annually and transported to the City of Danville's POTW for treatment.

A Uniform Environmental Covenants Act (UECA) covenant for the Site was signed and recorded with Pittsylvania County on November 2, 2018. The covenant prohibits use of the Site for residential purposes, requires maintenance and repairs for the Site's fencing, and requires the maintenance of the Site's landfill cap, leachate collection system, and leachate holding tanks. At the PRPs discretion, groundwater use restrictions were also included in the covenant. The restrictions prohibit the extraction or use of groundwater beneath the Site for potable or non-potable purposes.

Five-Year Review

Pursuant to CERCLA section 121(c) and as provided by current guidance on five-year reviews, Five-Year Review Recommended Template (OLEM 9200.0-89, January 2016), EPA must conduct a statutory five-year review if hazardous substances remain on-site above levels that would allow for unlimited use and unrestricted exposure. Statutory five-year reviews have been conducted at the Site in 1999, 2005, 2010, 2015, and 2020. The Protectiveness Statement in the 2020 Five-Year Review is as follows: “The remedial actions performed at the Site achieved the cleanup goals outlined in the 1991 ROD, 2007 ESD, and 2014 ROD Amendment and institutional controls have been implemented. Although O&M, monitoring, and five-year reviews, are needed to protect human health and the environment, no further Superfund response action is necessary. Therefore, the Site is protective of human health and the environment in the long term.” No issues or recommendations were identified during the 2020 Five-Year Review. The next five-year review for this Site is scheduled to be completed in January 2025 and every five years thereafter.

Community Involvement

EPA's community involvement activities associated with the deletion will consist of making the deletion docket electronically available for the general public and placing a public notice of EPA's intent to delete the Site from the NPL in the Danville Register & Bee, a major local newspaper of general circulation. EPA is also providing a 30-day comment period and will respond to significant comments and significant data in accordance with 40 CFR 300.425(e)(4)(iv).

Determination That the Site Meets the Criteria for Deletion in the NCP

Construction completion for the Site was documented in the Preliminary Closeout Report (PCOR), dated September 27, 1995. Site completion was documented in the Final Closeout Report (FCOR), dated January 9, 2020. All RAOs, performance standards, and cleanup levels established in the 1991 ROD, 2007 ESD, and 2014 ROD Amendment have been achieved at the Site, and the Selected Remedy is protective of human health and the environment. Institutional controls are in place and effective. No further Superfund response actions, other than O&M, monitoring, and five-year reviews, are necessary to protect human health and the environment.

The procedures specified in 40 CFR 300.425(e) have been followed for the deletion of the Site. EPA, with concurrence of the Commonwealth of Virginia through VDEQ, has determined that all appropriate response actions under CERCLA have been completed. Therefore, EPA is issuing this Notice of Deletion to delete the Site from the NPL.

V. Deletion Action

The EPA, with concurrence of the Commonwealth of Virginia through VDEQ, has determined that all appropriate response actions under CERCLA, other than O&M, monitoring, and five-year reviews have been completed. Therefore, EPA is deleting the Site from the NPL.

Because EPA considers this action to be noncontroversial and routine, EPA is taking it without prior publication. This action will be effective August 24, 2020 unless EPA receives adverse comments by July 23, 2020. If adverse comments are received within the 30-day public comment period, EPA will publish a timely withdrawal of this direct final rule before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: June 16, 2020.
Cosmo Servidio,
Regional Administrator, EPA Region III.

For the reasons stated in the preamble, the Environmental Protection Agency amends 40 CFR part 300 as follows:

PART 300—NATIONAL OIL AND HAZARDOUS SUBSTANCES POLLUTION CONTINGENCY PLAN

1. The authority citation for part 300 continues to read as follows:

Authority: 33 U.S.C. 1251 et seq.

Appendix B to Part 300—[Amended]

2. Table 1 of Appendix B to part 300 is amended by removing “VA,” “First Piedmont Rock Quarry (Route 719)”, “Pittsylvania County”.

[FR Doc. 2020-13459 Filed 6-22-20; 8:45 am]

BILLING CODE 6560-50-P